DEPARTMENT OF HEALTH AND HUMAN SERVICES

Centers for Disease Control and Prevention

[Program Announcement 02168]

Clinical Immunization Safety Assessment Centers (CISA); Notice of Availability of Funds for Fiscal Year 2002; Amendment

A notice announcing the availability of Fiscal Year 2002 funds for a cooperative agreement program for Clinical Immunization Safety Assessment Centers (CISA) was published in the Federal Register on June 24, 2002, [Vol. 67 Number 121, Pages 42564-42566]. The notice is amended as follows: On page 42565, first column, under Section C. Eligible Applicants, at the end of the first paragraph, add the following sentence: “The existing CISA Network includes Boston Medical Center, Columbia Presbyterian, John Hopkins (and it's subcontractor, University of Maryland), Kaiser Permanente Northern California (and it's subcontractors Vanderbilt and Stanford).”

Dated: July 5, 2002.
Sandra R. Manning,
CGFM, Director, Procurement and Grants Office, Centers for Disease Control and Prevention.

[FR Doc. 02-17505 Filed 7-11-02; 8:45 am]

BILLING CODE 4163-18-P